DEPARTMENT OF COMMERCE

International Trade Administration

15 CFR part 335 and 340

Docket Number: 001229368-5150-03

RIN: 0625-AA58

Imports of Certain Worsted Wool Fabric: Implementation of Tariff Rate Quota Established Under Title V of the Trade and Development Act of 2000

AGENCY: Department of Commerce, International Trade Administration.

ACTION: Final rule; withdrawal.

SUMMARY: The Department of Commerce (“Commerce”) is withdrawing its final rule entitled “Imports of Certain Worsted Wool Fabric: Implementation of Tariff Rate Quota Established Under Title V of the Trade and Development Act of 2000” published on May 12, 2005 (70 FR 24941). That rule finalized tariff rate quotas (TRQ) for a limited quantity of worsted wool fabrics pursuant to Title V of the Trade and Development Act of 2000 (“the Act”) as amended by the Trade Act of 2002. The rule is being withdrawn due to an incorrect effective date.

DATES: The final rule published on May 12, 2005 at 70 FR 24941 is withdrawn as of June 10, 2005.

FOR FURTHER INFORMATION CONTACT: Sergio Botero, Office of Textiles and Apparel, U.S. Department of Commerce, (202) 482-4058.

SUPPLEMENTARY INFORMATION: The Department of Commerce (“Commerce”) is withdrawing its final rule published on May 12, 2005 at 70 FR 24941. That rule finalized tariff rate quotas (TRQ) for a limited quantity of worsted wool fabrics pursuant to Title V of the Trade and Development Act of 2000 (“the Act”) as amended by the Trade Act of 2002. The rule is being withdrawn because the effective date of the rule is incorrect. The effective date for the final rule was incorrectly established for June 13, 2005.

Commerce currently has open for comment a related interim final rule that implements amendments made by the Miscellaneous Trade Act of 2004 (70 FR 25774). Comments may be submitted until 5:00 p.m. on July 15, 2005. Please see the interim final rule for background information and instructions for submitting comments.

Classification: It has been determined that this notice is not significant for purposes of E.O. 12866.

The Department finds good cause to waive prior notice and an opportunity for public comment required by the Administrative Procedure Act because it is unnecessary and contrary to the public interest. Prior notice and opportunity for public comment is unnecessary because this rule will not have a substantive impact on the affected industry. The provisions implemented by the May 12, 2005 rule are not currently in effect and have not impacted the regulated industry. The withdrawal of the May 12, 2005 rule will, therefore, not substantively change the requirements currently imposed on the regulated industry. It would be contrary to the public interest to allow for prior notice and an opportunity for public comment because the published effective date of the May 12, 2005 rule conflicts with an interim final rule that implemented recently enacted statutory amendments. Consequently, if the May 12, 2005 rule is allowed to go into effect, it would create confusion in the industry. Therefore, it is unnecessary and contrary to the public interest to provide prior notice and an opportunity for public comment.

The Department finds that the 30-day in effectiveness is inapplicable because this rule is not a substantive rule. The provisions implemented by the May 12, 2005 rule are not currently in effect and its withdrawal will not substantively change the requirements currently imposed on the regulated industry.

Because notice and opportunity for comment are not required pursuant to 5 USC 553 or any other law, the analytical requirements of the Regulatory Flexibility Act (5 USC 601 et seq.) are inapplicable. Therefore, a regulatory flexibility analysis is not required and has not been prepared.

Dated: June 7, 2005.
Joseph A. Spetrini
Acting Assistant Secretary for Import Administration.

[FR Doc. 05-11595 Filed 6-9-05; 8:45 am]

BILLING CODE 3510-DS-S